DEPARTMENT OF JUSTICE

Notice of Lodging Proposed Consent Decree

In accordance with Departmental Policy, 28 CFR 50.7, notice is hereby given that a proposed Consent Decree in United States v. Georgia Coastal Land Co., et al., No. 2:16-cv-00060-LGW-RSB, was lodged with the United States District Court for the Southern District of Georgia on April 7, 2017.

This proposed Consent Decree concerns a complaint filed by the United States against Georgia Coastal Land Company, Provident Land Holdings Company, Provident Construction Company, and William L. Nutting, pursuant to Sections 301, 309, and 404 of the Clean Water Act, 33 U.S.C. 1311(a), 1319(g)(9), and 1344(s), to obtain injunctive relief from and impose civil penalties against the Defendants for violating the Clean Water Act by discharging pollutants without a permit into waters of the United States. The proposed Consent Decree resolves these allegations by requiring the Defendants to restore impacted areas and perform mitigation, and to pay civil and administrative penalties.

The Department of Justice will accept written comments relating to this proposed Consent Decree for thirty (30) days from the date of publication of this Notice. Please address comments to Samara Spence, Trial Attorney for the United States Department of Justice, Environment and Natural Resources Division, Environmental Defense Section, Post Office Box 7611, Washington, DC 20044 and refer to United States v. Georgia Coastal Land Co., et al., DJ #90-5-1-1-20782.

The proposed Consent Decree may be examined at the Clerk's Office, United States District Court for the Southern District of Georgia, Brunswick Division, 801 Gloucester Street, Brunswick, GA 31520. In addition, the proposed Consent Decree may be examined electronically at http://www.justice.gov/enrd/consent-decrees.

Cherie L. Rogers,
Assistant Section Chief, Environmental Defense Section, Environment and Natural Resources Division.

[FR Doc. 2017-07499 Filed 4-12-17; 8:45 am]

BILLING CODE 4410-15-P